DEPARTMENT OF THE INTERIOR

Bureau of Land Management

[CA-670-07-1610-DQ]

Notice of Availability of Eastern San Diego County Proposed Resource Management Plan and Final Environmental Impact Statement, California

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Proposed Resource Management Plan (RMP) and Final Environmental Impact Statement (EIS) for the Eastern San Diego County planning area managed by the El Centro Field Office.

DATES: BLM Planning Regulations set forth the provisions applicable to protests (43 CFR 1610.5-2). A person who meets the conditions as described in the regulations cited above, and who wishes to file a protest, must file said protest within 30 days of the date this notice is published in the Federal Register. Additional information on protests is set forth in the Dear Reader letter of the Eastern San Diego County Proposed RMP and Final EIS and in the Supplementary Information section of this notice. To ensure compliance with the protest regulations, please consult BLM's Planning Regulations at 43 CFR 1610.5-2.

ADDRESSES: A copy of the Proposed RMP/Final EIS has been sent to affected Federal, State and local government agencies and interested parties. The document will be available electronically at the following Eastern San Diego County RMP Web site: http://www.ca.blm.gov/elcentro. Copies of the PRMP/FEIS will be available for public inspection at the following locations:

• Bureau of Land Management, California State Office, 2800 Cottage Way, Suite W-1834, Sacramento, CA 95825.

• Bureau of Land Management, El Centro Field Office, 1661 S. 4th Street, El Centro, CA 92243.

FOR FURTHER INFORMATION CONTACT: Erin Dreyfuss, Eastern San Diego County RMP Team Leader, at (760) 337-4400, Bureau of Land Management, 1661 S. 4th Street, El Centro, CA 92243; caesdrmp@ca.blm.gov.

SUPPLEMENTARY INFORMATION: The planning area for the Eastern San Diego County RMP is the El Centro Field Office's area of management responsibility. A total of approximately 103,000 acres of public lands are administered by the BLM in the planning area. The decisions in the RMP will only apply to BLM-administered lands and mineral estate in the planning area. The Eastern San Diego County Proposed RMP and Final EIS have been developed through collaborative planning and consider four alternatives. Primary issues include: renewable energy, sensitive natural and cultural resources, livestock grazing, energy and mineral development, visual resources, and motorized vehicle route designations. The Proposed RMP/FEIS includes consideration of the designation of Areas of Critical Environmental Concern (ACECs). The proposed plan includes retaining all or portions of the following existing ACECs: In-Ko-Pah ACEC—(currently 22,186 acres); Table Mountain ACEC—(currently 4,293 acres). In the Proposed RMP/FEIS, the In-Ko-Pah ACEC would be reduced in the north and east to avoid overlap with designated wilderness and wilderness study areas, and expanded in the south and west to include critical habitat for Peninsular Bighorn Sheep. Use of public lands within these ACECs would vary, depending on the resources and/or values identified but would likely include limitations on OHV use and livestock grazing.

Comments on the Eastern San Diego County Draft RMP/EIS received from the public and internal BLM review comments were incorporated into the Proposed RMP. Public comments resulted in corrections, clarifying text, and the addition of new data used in the analysis of impacts. The Proposed Eastern San Diego County RMP would provide comprehensive, long-range decisions for the use and management of resources in the planning area administered by the BLM and focus on the principles of multiple use and sustained yield.

As noted above, instructions for filing a protest with the Director of the BLM regarding the Proposed RMP and Final EIS are described in 43 CFR 1610.5-2. E-mailed and faxed protests will not be accepted as valid protests unless the protesting party also provides the original letter by regular or overnight mail postmarked by the close of the protest period. Under these conditions, BLM will consider the e-mailed or faxed protest as an advance copy and it will receive full consideration. If you wish to provide BLM with such advance notification, please direct faxed protests to the attention of the BLM protest coordinator at (202) 452-5112, and e-mails to Brenda_Hudgens-Williams@blm.gov.

All protests, including the follow-up letter (if e-mailing or faxing) must be in writing and mailed to one of the following addresses:

Regular Mail:

Director (210)

Attention: Brenda Williams

P.O. Box 66538

Washington, DC 20035

Overnight Mail:

Director (210)

Attention: Brenda Williams

1620 L Street, NW., Suite 1075

Washington, DC 20036

Before including your address, phone number, e-mail address, or other personal identifying information in your protest, you should be aware that your entire protest—including your personal identifying information—may be made publicly available at any time. While you can ask us in your protest to withhold your personal identifying information from public review, we cannot guarantee that we will be able to do so.

Dated: November 19, 2007.
Vicki L. Wood,
Field Manager.

[FR Doc. E7-23771 Filed 12-6-07; 8:45 am]

BILLING CODE 4310-40-P